DEPARTMENT OF COMMERCE

International Trade Administration

[A-427-098]

Anhydrous Sodium Metasilicate From France: Revocation of Antidumping Duty Order

AGENCY: Import Administration, International Trade Administration, Department of Commerce.

ACTION: Notice of revocation of the antidumping duty order on anhydrous sodium metasilicate from France.

SUMMARY: On September 1, 2004, the Department of Commerce (“the Department”) initiated a second sunset review of the antidumping duty order on anhydrous sodium metasilicate from France. See Initiation of Five-Year (“Sunset”) Reviews, 69 FR 53408 (September 1, 2004). Because no domestic party responded to the sunset review notice of initiation by the applicable deadline, the Department is revoking the antidumping duty order on anhydrous sodium metasilicate from France.

EFFECTIVE DATE: October 21, 2004.

FOR FURTHER INFORMATION CONTACT: Martha V. Douthit, Office of Policy, Import Administration, International Trade Administration, U.S. Department of Commerce, 14th Street and Constitution Avenue, NW., Washington, DC 20230; telephone: (202) 482-5050.

SUPPLEMENTARY INFORMATION:

Scope

Imports covered by this order covers anhydrous sodium metasilicate from France, a crystallized silicate which is alkaline and readily soluble in water. Applications include waste paper de-inking, ore-flotation, bleach stabilization, clay processing, medium or heavy duty cleaning, and compounding into other detergent formulations. This merchandise is classified under Harmonized Tariff Schedules of the United States (“HTSUS”) item numbers 2839.11.00 and 2839.19.00. The HTSUS item numbers are provided for convenience and customs purposes. The written description remains dispositive.

Background

On January 7, 1981, the Department issued an antidumping duty order on anhydrous sodium metasilicate from France. See Anhydrous Sodium Metasilicate From France, Antidumping Duty Order, 46 FR 1667 (January 7, 1981). On October 21, 1999, pursuant to 19 CFR 351.218(f)(4), the Department published in the Federal Register its notice of continuation of the antidumping duty order following the first sunset review. See Continuation of Antidumping Duty Order: Anhydrous Sodium Metasilicate From France, 64 FR 56737 (October 21, 1999). On September 1, 2004, the Department initiated a second sunset review of this order pursuant to section 751(c) of the Tariff Act of 1930, as amended, (the “Act”), and 19 CFR part 351, in general. See Initiation of Five-Year (“Sunset”) Review, 69 FR 53408 (September 1, 2004). As a courtesy to interested parties, the Department sent letters, via certified and registered mail, to each party listed on the Department's most current service list for this proceeding to inform them of the automatic initiation of a sunset review of this order. We received no response from the domestic industry by the deadline date. See 19 CFR 351.218(d)(1)(i). As a result, the Department determined that no domestic party intends to participate in the sunset review. On September 21, 2004, the Department notified the International Trade Commission (“ITC”) in writing that we intended to issue a final determination revoking this antidumping duty order. See 19 CFR 351.218(d)(1)(iii)(B).

Determination To Revoke

Pursuant to section 751(c)(3)(A) of the Act and 19 CFR 351.218(d)(1)(iii)(B)(3), if no domestic interested party responds to the notice of initiation, the Department shall issue a final determination, within 90 days after the initiation of the review, revoking the order. Because no domestic interested party filed a notice of intent to participate or a substantive response, the Department finds that no domestic interested party is participating in this review. Therefore, we are revoking this antidumping duty order effective October 21, 2004, the fifth anniversary of the date of the determination to continue the order, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct U.S. Customs and Border Protection to terminate the suspension of liquidation of the merchandise subject to this order entered, or withdrawn from warehouse, on or after October 21, 2004. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (“sunset”) review and notice are in accordance with sections 751(c) and 777(i)(1) of the Act.

Dated: October 15, 2004.
Jeffrey A. May,
Acting Assistant Secretary for Import Administration.

[FR Doc. E4-2792 Filed 10-20-04; 8:45 am]

BILLING CODE 3510-DS-P